DEPARTMENT OF DEFENSE

Office of the Secretary

Senior Executive Service Performance Review Board

AGENCY: Department of Defense Office of Inspector General.

ACTION: Notice.

SUMMARY: This notice announces the appointment of the members of the Senior Executive Services (SES) Performance Review Board (PRB) for the Department of Defense Office of Inspector General (DoD OIG), as required by 5 U.S.C. 4314(c)(4). The PRB provides fair and impartial review of SES performance appraisals and makes recommendations regarding performance ratings and performance awards to the Inspector General.

EFFECTIVE DATE: September 30, 2006.

FOR FURTHER INFORMATION CONTACT: Mr. Michael Peterson, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Dated: September 25, 2006.
C.R. Choate,
Alternate OSD Federal Register Liaison Officer, Department of Defense.

Patricia A. Branin | Assistant Inspector General for Audit Policy and Oversight, ODIG-P&O.
John R. Crane | Assistant Inspector General for Communications and Congressional Liaison.
Uldric L. Fiore | General Counsel, Assistant Inspector General for Office of Legal Counsel.
Thomas F. Gimble | Acting Inspector General.
Paul J. Granetto | Assistant Inspector General for Defense Financial Auditing Service, ODIG-AUD.
L. Jerry Hansen | Deputy Inspector General for Policy and Oversight.
Melissa Heist | Assistant Inspector General for Audit, Environmental Protection Agency.
Donald M. Horstman | Director of Investigations of Senior Officials, ODIG-INV.
Richard B. Joliffe | Assistant Inspector General for Acquisition and Contract Management, ODIG-AUD.
Helen Lew | Assistant Inspector General for Audit Services, Department of Education.
Patricia A. Marsh | Deputy Director, Defense Financial Auditing Service, ODIG-AUD.
William B. Morrison | Assistant Inspector General for Inspections and Evaluations, ODIG-P&O.
James L. Pavlik | Assistant Inspector General for Investigation Policy and Oversight, ODIG-P&O.
Richard T. Race | Acting Principal Deputy Inspector General.
Wanda A. Scott | Assistant Inspector General for Readiness and Operations Support, ODIG-AUD.
Linda Snider | Assistant Inspector General, Audit Planning and Administration, Department of Energy.
Mary L. Ugone | Deputy Inspector General for Auditing.
Eugene S. Waszily | Deputy Inspector General, General Services Administration.
R. Keith West | Principal Assistant Inspector General for Auditing, ODIG-AUD.
Daniel F. Willkens | Acting Director, Defense Criminal Investigative Service, Assistant Inspector General for Investigations, ODIG-INV.
Stephen D. Wilson | Assistant Inspector General for Administration and Management.
Shelton R. Young | Deputy Inspector General for Intelligence.

[FR Doc. 06-8360 Filed 9-28-05; 8:45am]

BILLING CODE 5001-06-M